DEPARTMENT OF COMMERCE

International Trade Administration

[Application No. 08-00002]

Export Trade Certificate of Review

ACTION: Notice of Issuance of an Export Trade Certificate of Review to Wilco Machine & Fab, Inc. (Application No. 08-00002).

SUMMARY: On May 12, 2008, the U.S. Department of Commerce issued an Export Trade Certificate of Review to Wilco Machine & Fab, Inc. (“WILCO”). This notice summarizes the conduct for which certification has been granted.

FOR FURTHER INFORMATION CONTACT: Jeffrey Anspacher, Director, Export Trading Company Affairs, International Trade Administration, by telephone at (202) 482-5131 (this is not a toll-free number), or by E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2006).

Export Trading Company Affairs (“ETCA”) is issuing this notice pursuant to 15 CFR section 325.6(b), which requires the Secretary of Commerce to publish a summary of the certification in the Federal Register. Under Section 305(a) of the Act and 15 CFR section 325.11(a), any person aggrieved by the Secretary's determination may, within 30 days of the date of this notice, bring an action in any appropriate district court of the United States to set aside the determination on the ground that the determination is erroneous.

Description of Certified Conduct: WILCO is certified to engage in the Export Trade Activities and Methods of Operation described below in the following Export Trade and Export Markets.

I. Export Trade

Products

All Products manufactured by WILCO, including all fabricated, machined, or assembled pressure vessels, tanks, bulk transport trailers, bulk storage trailers, bulk plants or any components of or tools for the aforementioned items (North American Industry Classification System codes: 333132; 332313; 332420; and 332439).

II. Export Markets

The Export Markets include all parts of the world except the United States (the fifty states of the United States, the District of Columbia, the Commonwealth of Puerto Rico, the Virgin Islands, American Samoa, Guam, the Commonwealth of the Northern Mariana Islands, and the Trust Territory of the Pacific Islands).

III. Export Trade Activities and Methods of Operation

1. WILCO, on its own behalf, may:

a. Sales Price: Establish sale prices, minimum sales prices, target sale prices and/or minimum target sales prices, and other terms of sale in Export Markets.

b. Marketing and Distribution: Conduct marketing and distribution of Products in Export Markets.

c. Promotion: Conduct promotion of Products in Export Markets.

d. Quantities: Determine quantities of Products to be sold in Export Markets.

e. Market and Customer Allocation: Allocate geographic areas or countries in the Export Markets and/or customers in the Export Markets to Export Intermediaries.

f. Refusals to Deal: Refuse to quote prices for Products, or to market or sell Products, to or for any customers in the Export Markets, or any countries or geographical areas in the Export Markets.

g. Exclusive and Nonexclusive Export Intermediaries: Enter into exclusive and nonexclusive agreements appointing one or more Export Intermediaries for the sale of Products in Export Markets with price, quantity, territorial, and/or customer restrictions as provided above.

WILCO may meet with customers or Export Intermediaries to discuss or engage in the activities described above.

2. WILCO may, on a one-to-one basis, meet with, exchange, and discuss the following information with its customers and its Export Intermediaries:

a. Information about sale and marketing efforts for the export markets, activities and opportunities for sales of Products in the Export Markets, selling strategies for the Export Markets, sales for the Export Markets, contracts and pricing in the Export Markets, project demands in the Export Markets for Products, customary terms of sale in the Export Markets, price and availability of Products from competitors for sale in Export Markets, and specifications for Products by customers in the Export Markets.

b. Information about its price, quality, quantity, source, and delivery dates of Products for Export Markets.

c. Information about terms and conditions of contracts for sale in the Export Markets to be considered and/or bid on by WILCO.

d. Information about bidding, selling, or sales arrangements for the Export Markets.

e. Information about expenses specific to exporting to and within the Export Markets, including without limitation, transportation, shipments, insurance, inland freight to port, port storage, commissions, export sales, documentation, financing, customs, duties, and taxes.

f. Information about U.S. and foreign legislation and regulations relating to sales in the Export Markets.

g. Information about WILCO's export operations, including without limitation, sales and prior export sales information and prior export price information.

h. Information about export customer credit terms and credit history.

V. Definition

• “Export Intermediary” means a person who acts as a distributor, sales representative, sales or marketing agent, import agent, broker, or a person who performs similar functions including providing or arranging for the provision of export trade facilitation services.

A copy of the Certificate will be kept in the International Trade Administration's Freedom of Information Records Inspection Facility, Room 4100, U.S. Department of Commerce, 14th Street and Constitution Avenue, NW., Washington, DC 20230.

Dated: May 14, 2008.
Jeffrey Anspacher,
Director Export Trading Company Affairs.

[FR Doc. E8-11262 Filed 5-19-08; 8:45 am]

BILLING CODE 3510-DR-P